DEPARTMENT OF ENERGY

Federal Energy Regulatory Commission

[Project No. 2144-038; Project No. 2225-013]

City of Seattle; Public Utility District No. 1 of Pend Oreille County; Notice of Settlement Agreement and Soliciting Comments

April 1, 2010.

Take notice that the following Joint Settlement Agreement (Settlement) has been filed with the Commission and is available for public inspection.

a. Type of Application: Joint Settlement Agreement for the relicensing of the Boundary Hydroelectric Project and the surrender of the Sullivan Creek Hydroelectric Project.

b. Project No.: Boundary: P-2144-038; Sullivan Creek: P-2225-013.

c. Date Filed: March 29, 2010.

d. Applicant: Boundary: City of Seattle; Sullivan Creek: Public Utility District No. 1 of Pend Oreille County.

e. Location: Boundary: The existing project is located on the Pend Oreille River in Pend Oreille County, Washington, in northeast Washington. The project occupies 616 acres of the Colville National Forest and 313 acres of Bureau of Land Management lands.

Sullivan Creek: The existing project is located on Sullivan Creek, a tributary to the Pend Oreille River. The project also occupies lands within the Colville National Forest.

g. Filed Pursuant to: Rule 602 of the Commission's Rules of Practice and Procedure, 18 CFR 385.602 Federal Power Act 16 U.S.C. 791(a)-825(r).

h. Applicant Contact: Boundary: Jorge Carrasco, Superintendent, Seattle City Light, 700 Fifth Avenue, Suite 3200, Seattle, WA 98124-4023; (206) 615-1091.

Sullivan Creek: Mark J Cauchy, Public Utility District No. 1 of Pend Oreille County, Washington, PO Box 190, New port, WA 99156-0190; 509-447-9331.

i. FERC Contact: David Turner (202) 502-6091 or via e-mail at david.turner@ferc.gov.

j. Deadline for filing comments on the Settlement: April 19, 2010. Reply comments due April 28, 2010. All documents (original and eight copies) should be filed with: Kimberly D. Bose, Secretary, Federal Energy Regulatory Commission, 888 First Street, NE., Washington, DC 20426.

k. The City of Seattle (City) and the Public Utility District of Pend Oreille County (District) filed a comprehensive settlement agreement (Agreement) on behalf of the City; District; Bureau of Indian Affairs; National Park Service; U.S. Fish and Wildlife Service; United States Forest Service; Washington Department of Fish and Wildlife; Washington Department of Ecology; Kalispel Tribe; the Lands Council; American Whitewater; Selkirk Conservation Alliance; the Town of Cusick, Washington; Rick Larson; and Al Six. The Agreement resolves among the signatories all issues associated with issuance of a new license for the Boundary Project, including fish passage, fish and wildlife habitat enhancement, water quality, fish supplementation, recreation, cultural properties, and other matters. The surrender of the District's Sullivan Creek Project includes the removal of Mill Pond dam, related stream habitat restoration, and construction of a cold water release facility at Sullivan Lake dam. The signatories request that the Commission: (1) Accept and incorporate, without material modification, all of the proposed license articles in Exhibit 1 of the Settlement in the new project license for the Boundary Project; and (2) insure an order accepting the surrender of the District's license for the Sullivan Creek project subject to the conditions contained in Appendix B to the Agreement.

l. The A copy of the Settlement Agreement is available for review at the Commission in the Public Reference Room or may be viewed on the Commission's Web site at http://www. ferc.gov, using the “e-Library” link. Enter the docket number, excluding the last three digits in the docket number field, to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

Kimberly D. Bose,
Secretary.

[FR Doc. 2010-8064 Filed 4-8-10; 8:45 am]

BILLING CODE 6717-01-P